FEDERAL MARITIME COMMISSION

[Docket No. 04-04]

World-Wide Express Inc. v. Stevedoring Services of America, Terminals Inc.; Argosy Transport, Inc.; and Capt. S.L. Huo; Notice of Filing of Complaint and Assignment

Notice is given that a complaint has been filed with the Federal Maritime Commission (“Commission”) by World-Wide Express, Inc. (“WWE”) against Stevedoring Services of America, Terminals Inc. (“SSAT”); Argosy Transport, Inc. (“Argosy”); and Capt. S.L. Huo. Complainant contends that Respondents violated section 10 of the Shipping Act of 1984, as amended, (“Shipping Act”) in their role as marine terminal operators in connection with several shipments of containers moving from Shanghai to Los Angeles. Complainant contends that SSAT refused to deal with it and directed it to contact Agrosy and its principal Capt. S.L. Huo. Complainant asserts that it entered into a contract with Agrosy which contains rates that Complainant contends were not published in a tariff. Complainant further contends that Argosy contracted with SSAT to provide the terminal services and that the rates charged by SSAT to Argosy were substantially less than the rates published by SSAT in its tariff. Complainant contends that these alleged activities violate section 10 of the Shipping Act and that it is entitled to reparation in the sum of $380,000.00, plus interest at the rate of 2% per month.

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by February 21, 2005, and the final decision of the Commission shall be issued by June 21, 2005.

Bryant L. VanBrakle,
Secretary.

[FR Doc. 04-4384 Filed 2-26-04; 8:45 am]

BILLING CODE 6730-01-P